DEPARTMENT OF JUSTICE

Antitrust Division

Notice Pursuant to the National Cooperative Research and Production Act of 1993—IMS Global Learning Consortium, Inc.

Notice is hereby given that, on March 16, 2007, pursuant to Section 6(a) of the National Cooperative Research and Production Act o 1993, 15 U.S.C. 4301 et seq. (“the Act”), IMS Global Learning Consortium, Inc. has filed written notifications simultaneously with the Attorney General and the Federal Trade Commission disclosing changes in its membership. The notifications were filed for the purpose of extending the Act's provisions limiting the recovery of antitrust plaintiffs to actual damages under specified circumstances. Specifically, Apple Computer, Cupertino, CA; Cisco Systems, Inc., San Jose, CA; University Koblenz-Landau, Mainz, GERMANY; and Carl and Ruth Shapiro Family National Center for Accessible Media at WGBH, Boston, MA have been added as parties to this venture. Also, Tribal Education Ltd., Sheffield, UNITED KINGDOM; WebCT, Lynnfield, MA; Centre for Research and Technology Hellas (CERTH), Thermi, Thessaloniki, GREECE; University of California-Berkeley, Berkeley, CA; Ufi Limited, Sheffield, UNITED KINGDOM; Massachusetts Institute of Technology, Cambridge, MA; Convergys, San Francisco, CA; and Stanford University, Stanford, CA have withdrawn as parties to this venture.

No other changes have been made in either the membership or planned activity of the group research project. Membership in this group research project remains open, and IMS Global Learning Consortium, Inc. intends to file additional written notifications disclosing all changes in membership.

On April 7, 2000, IMS Global Learning Consortium, Inc. filed its original notification pursuant to Section 6(a) of the Act. The Department of Justice published a notice in the Federal Register pursuant to Section 6(b) of the Act on September 13, 2000 (65 FR 55283).

The last notification was filed with the Department on December 26, 2006. A notice was published in the Federal Register pursuant to Section 6(b) of the Act on February 12, 2007 (72 FR 6577).

Patricia A. Brink,
Deputy Director of Operations, Antitrust Division.

[FR Doc. 07-2228 Filed 5-4-07; 8:45 am]

BILLING CODE 4410-11-M